SECURITIES AND EXCHANGE COMMISSION

[File No. 500-1]

Busybox.com, Inc.; Order of Suspension of Trading

It appears to the Securities and Exchange Commission that there is a lack of current and accurate information concerning the securities of Busybox.com, Inc. because the company has failed to file periodic reports with the Commission since the period ending September 30, 2000 as required by Section 13(a) of the Securities Exchange Act of 1934 (“Exchange Act”) and Rules 13a-1 and 13a-13 thereunder.

The Commission is of the opinion that the public interest and the protection of investors require a suspension of trading in the securities of Busybox.com, Inc.

Therefore, it is ordered, pursuant to Section 12(k) of the Exchange Act, that trading in the securities of Busybox.com, Inc. is suspended for the period from 9:30 a.m. EDT on June 24, 2005, through 11:59 p.m. EDT on July 8, 2005.

By the Commission.
Jonathan G. Katz,
Secretary.

[FR Doc. 05-12835 Filed 6-24-05; 12:03 pm]

BILLING CODE 8010-01-P